DEPARTMENT OF HEALTH AND HUMAN SERVICES

Notice of Meeting of the Advisory Committee on Minority Health

AGENCY: Office of the Secretary, Office of Public Health and Science, Office of Minority Health DHHS.

ACTION: Notice is given of the third meeting.

The Advisory Committee on Minority Health will meet on Monday, December 10, 2001 from 9:00 a.m. to 5:00 p.m., and Tuesday, December 11, 2001, from 8:30 a.m.-12 Noon. The meeting will be held at the Hilton Hotel Washington, Thoroughbred Room, 1919 Connecticut Avenue, NW., Washington, DC.

The Advisory Committee will discuss racial and ethnic disparities in health, as well as, other related issues.

The meeting is open to the public. There will be an opportunity for public comment which will be limited to five minutes per speaker. Individuals who would like to submit written statements should mail or fax their comments to the Office of Minority Health at least two business days prior to the meeting.

For further information, please contact Ms. Sheila Merriweather, Rockwall II Building, 5515 Security Lane, Suite 1000, Rockville, Maryland 20852. Phone: 301-443-9923 Fax: 301-443-8280.

Dated: October 30, 2001.
Nathan Stinson, Jr.,
Deputy Assistant Secretary for Minority Health.

[FR Doc. 01-28382 Filed 11-9-01; 8:45 am]

BILLING CODE 4150-29-M